DEPARTMENT OF COMMERCE

Foreign-Trade Zones Board

[B-34-2022]

Foreign-Trade Zone (FTZ) 75—Phoenix, Arizona; Notification of Proposed Production Activity; Lucid Motors USA, Inc. (Electric Automobiles and Subassemblies); Casa Grande and Tempe, Arizona

Lucid Motors USA, Inc., submitted a notification of proposed production activity to the FTZ Board (the Board) for its facilities in Casa Grande and Tempe, Arizona within Subzone 75N. The notification conforming to the requirements of the Board's regulations (15 CFR 400.22) was received on July 29, 2022.

Pursuant to 15 CFR 400.14(b), FTZ production activity would be limited to the specific foreign-status material(s)/component(s) described in the submitted notification (summarized below) and subsequently authorized by the Board. The benefits that may stem from conducting production activity under FTZ procedures are explained in the background section of the Board's website—accessible via www.trade.gov/ftz. The proposed material(s)/component(s) would be added to the production authority that the Board previously approved for the operation, as reflected on the Board's website.

The proposed foreign-status materials and components include vehicle roof, backlite, window, and mirror glass (duty rate of 2.5%). The request indicates that the materials/components are subject to duties under section 301 of the Trade Act of 1974 (Section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is September 26, 2022.

A copy of the notification will be available for public inspection in the “Online FTZ Information System” section of the Board's website.

For further information, contact Juanita Chen at juanita.chen@trade.gov.

Dated: August 10, 2022.
Andrew McGilvray,
Executive Secretary.

[FR Doc. 2022-17537 Filed 8-15-22; 8:45 am]

BILLING CODE 3510-DS-P